FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 011284-080.

Agreement Name: Ocean Carrier Equipment Management Association.

Parties: American President Lines, LLC; APL Co. Pte. Ltd.; CMA CGM S.A.; COSCO Shipping Co., Ltd.; Evergreen Line Joint Service Agreement; Hamburg Sud; Hapag-Lloyd AG; Hapag-Lloyd USA, LLC; Hyundai Merchant Marine Co., Ltd.; MSC Mediterranean Shipping Company S.A.; Ocean Network Express Pte. Ltd.; Orient Overseas Container Line Limited; Wan Hai Lines Ltd.; Zim Integrated Shipping Services Ltd.; and Maersk A/S.

Filing Party: Jeffrey Lawrence and Donald Kasilke; Cozen O'Connor.

Synopsis: The amendment revises the affiliations of certain existing members; specifically, COSCO SHIPPING Lines, Co., Ltd. and Orient Overseas Container Line Limited shall be treated as one party for all purposes under the Agreement. In addition, the amendment updates the names of Maersk A/S and MSC Mediterranean Shipping Company S.A.

Proposed Effective Date: 1/31/2020.

Location: https://www2.fmc.gov/FMC.Agreements.Web/Public/AgreementHistory/1560.

Dated: February 7, 2020.
Rachel Dickon,
Secretary.

[FR Doc. 2020-02789 Filed 2-11-20; 8:45 am]

BILLING CODE 6731-AA-P